TENNESSEE VALLEY AUTHORITY

Meeting of the Regional Resource Stewardship Council

AGENCY: Tennessee Valley Authority (TVA).

ACTION: Notice of meeting.

SUMMARY: The TVA Regional Resource Stewardship Council (RRSC) will hold a meeting on Thursday, April 19, and Friday, April 20, 2012, to consider various matters.

The RRSC was established to advise TVA on its natural resource stewardship activities. Notice of this meeting is given under the Federal Advisory Committee Act (FACA), 5 U.S.C. App. 2.

The meeting agenda includes the following:

1. Introductions

2. Updates regarding TVA's Natural Resource Plan implementation and its River Operations essential stewardship functions, including management of the river system, dam safety, navigation, and flood control

3. Presentation(s) concerning TVA's stewardship partnership strategy

4. Public Comments

5. Council Discussion and Advice

The RRSC will hear opinions and views of citizens by providing a public comment session. The public comment session will be held at 9:30 a.m., EDT, on Friday, April 20. Persons wishing to speak are requested to register at the door by 8:30 a.m. on Friday, April 20 and will be called on during the public comment period. Handout materials should be limited to one printed page. Written comments are also invited and may be mailed to the Regional Resource Stewardship Council, Tennessee Valley Authority, 400 West Summit Hill Drive, WT-11 B, Knoxville, Tennessee 37902.

DATES: The meeting will be held on Thursday, April 19 from 8 a.m. to 11:45 a.m., and Friday, April 20, from 8 a.m. to noon, EDT.

ADDRESSES: The meeting will be held at the Chattanoogan Hotel, 1201 South Broad Street, Chattanooga, Tennessee 37402-2708 and will be open to the public. Anyone needing special access or accommodations should let the contact below know at least a week in advance.

FOR FURTHER INFORMATION CONTACT: Beth Keel, 400 West Summit Hill Drive, WT-11 B, Knoxville, Tennessee 37902, (865) 632-6113.

Dated: March 21, 2012.
Bruce S. Schofield,
Vice President, Land & Shoreline Management, Tennessee Valley Authority.

[FR Doc. 2012-7371 Filed 3-27-12; 8:45 am]

BILLING CODE 8120-08-P